DEPARTMENT OF AGRICULTURE

Forest Service

Information Collection; Interpretive Services at Ancient Bristlecone Pine Forest in the Inyo National Forest

AGENCY: Forest Service, USDA.

ACTION: Notice; request for comment.

SUMMARY: In accordance with the Paperwork Reduction Act of 1995, the Forest Service is seeking comments from all interested individuals and organizations on a new information collection, Interpretive Services at Ancient Bristlecone Pine Forest in the Inyo National Forest. This study requires administration of a survey to a statistical sample of site visitors.

DATES: Comments must be received in writing on or before October 6, 2003 to be assured of consideration. Comments received after that date will be considered to the extent practicable.

ADDRESSES: Comments concerning this notice should be addressed to Dr. James Absher, USDA Forest Service, Pacific Southwest Research Station, 4955 Canyon Crest Drive, Riverside, CA 92507. Comments also may be submitted via facsimile to (909) 680-1501 or by e-mail to jabsher@fs.fed.us. The public may inspect comments received at the address given previously during normal business hours. Visitors are encouraged to call ahead to (909) 680-1559 to facilitate entry to the building.

FOR FURTHER INFORMATION CONTACT: Dr. James Absher, Pacific Southwest Research Station, at (909) 680-1501. Individuals who use telecommunication devices for the deaf (TDD) may call the Federal Relay Service (FRS) at 1-800-877-8339 24 hours a day, every day of the year, including holidays.

SUPPLEMENTARY INFORMATION: Title: Interpretive Services at Ancient Bristlecone Pine Forest.

OMB Number: 0596-New.

Type of Request: New.

Abstract: As part of a continuing research effort to develop and try alternative approaches for evaluating recreational services on public lands, this information collection will focus entirely on visitors to the Ancient Bristlecone Forest in the Inyo National Forest of California, which is an important tourist destination. The information collected will help forest managers better understand how and why visitors use the interpretive opportunities provided and ways to improve service delivery. It will contribute to the assessment of recreational opportunities and to the forest's public programs in general. Researchers will use three methods to collect the information: (1) On-site observation of site use—for example, time spent on an interpretive trail or inside the visitor center, (2) an interview, or (3) a self-administered, written questionnaire. Both the interview and questionnaire are voluntary and will contain questions about how, why, and when visitors used interpretive services at Ancient Bristlecone Pine Forest, whether these services meet their needs, and how they think the interpretive services might be improved.

Experts in recreation, social science and interpretive services from the Forest Service and cooperating universities, in consultation with the Inyo National Forest staff, will develop the surveys. The researchers will then administer the surveys to a random sample of visitors at Ancient Bristlecone Pine Forest, analyze the information and incorporate the results and recommendations into reports for use by managers and other researchers. This survey is necessary to provide land managers with reliable information about site visitors and to improve customer and information services.

Estimate of Annual Burden: 20 minutes per respondent.

Type of Respondents: Randomly selected individuals visiting the interpretive services at Ancient Bristlecone Pine Forest, Inyo National Forest, California.

Estimated Annual Number of Respondents: 1,000.

Estimated Annual Number of Responses per Respondent: One.

Estimated Total Annual Burden on Respondents: 333 hours.

Comment is Invited

Comment is invited on: (1) The necessity of the information collection for the stated purposes and the proper performance of the functions of the agency, including whether the information will have practical or scientific utility; (2) the accuracy of the agency's estimate of the information collection burden, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will be a matter of public record. Comments will be summarized and included in the submission request toward Office of Management and Budget approval.

Dated: August 1, 2003.
Robert Lewis, Jr.,
Deputy Chief for Research and Development.

[FR Doc. 03-20142 Filed 8-6-03; 8:45 am]

BILLING CODE 3410-11-P